FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than July 21, 2014.

A. Federal Reserve Bank of Atlanta (Chapelle Davis, Assistant Vice President), 1000 Peachtree Street NE., Atlanta, Georgia 30309:

1. National Commerce Corporation, Birmingham, Alabama; to merge with United Group Banking Company of Florida, Inc., and thereby acquire United Legacy Bank, both of Longwood, Florida.

B. Federal Reserve Bank of Chicago (Colette A. Fried, Assistant Vice President), 230 South LaSalle Street, Chicago, Illinois 60690-1414:

1. Treynor Bancshares, Inc., Treynor, Iowa; to acquire 20 percent of TS Contrarian Bancshares, Inc., Treynor, Iowa, and thereby indirectly acquire The Bank of Tioga, Tioga, North Dakota.

2. TS Contrarian Bancshares, Inc., Treynor, Iowa; to become a bank holding company by acquiring 100 percent of The Bank of Tioga, Tioga, North Dakota.

C. Federal Reserve Bank of St. Louis (Yvonne Sparks, Community Development Officer), P.O. Box 442, St. Louis, Missouri 63166-2034:

1. Community Bank Shares of Indiana, Inc., New Albany, Indiana; to merge with First Financial Service Corporation, Elizabethtown, Kentucky, and thereby indirectly acquire First Federal Savings Bank of Elizabethtown, Elizabethtown, Kentucky.

D. Federal Reserve Bank of Dallas (E. Ann Worthy, Vice President), 2200 North Pearl Street, Dallas, Texas 75201-2272:

1. Carlile Bancshares, Inc., Fort Worth, Texas; to acquire Community Bankers, Inc., Fort Worth, Texas., and therefore indirectly acquire Community Banks Fort Worth, Texas. In connection with this application, Applicant also has applied to acquire Community Data Services, Inc., Cleburne, Texas, and thereby engage in activities related to data processing, pursuant to section 225.28(b)(14) of Regulation Y.

Board of Governors of the Federal Reserve System, June 19, 2014.
Michael J. Lewandowski,
Assistant Secretary of the Board.

[FR Doc. 2014-14730 Filed 6-24-14; 8:45 am]

BILLING CODE 6210-01-P